DEPARTMENT OF TRANSPORTATION

Federal Aviation Administration

14 CFR Part 71

[Docket No. FAA-2015-1649; Airspace Docket No. 15-AGL-6]

Proposed Amendment of Class D Airspace and Revocation of Class E Airspace; Columbus, Ohio State University Airport, OH, and Amendment of Class E Airspace; Columbus, OH

AGENCY: Federal Aviation Administration (FAA), DOT.

ACTION: Notice of proposed rulemaking (NPRM); withdrawal.

SUMMARY: This action withdraws the NPRM published in the Federal Register on June 24, 2015, proposing to amend Class D and Class E airspace and remove Class E airspace in the Columbus, OH, area. The FAA has determined that withdrawal of that NPRM is warranted as a second NPRM for the same airspace action was issued in July 2015.

DATES: May 2, 2016.

FOR FURTHER INFORMATION CONTACT: Jeffrey Claypool, Federal Aviation Administration, Operations Support Group, Central Service Center, 10101 Hillwood Parkway, Fort Worth, TX 76177; telephone (817) 222-5711.

SUPPLEMENTARY INFORMATION: An NPRM was published in the Federal Register of June 24, 2015 (80 FR 36265), to amend Title 14 Code of Federal Regulations (14 CFR) part 71, by amending Class D and Class E airspace and removing Class E airspace in the Columbus, OH area. The proposed action was due to the decommissioning of the Dan Scott non-directional beacon (NDB) and cancellation of the NDB approach at Ohio State University Airport, Columbus, OH. A second NPRM was published in the Federal Register of July 17, 2015 (80 FR 42434), proposing the same airspace actions and followed by a final rule published in the Federal Register of October 20, 2015 (80 FR 63426), acknowledging only the second NPRM. Therefore, the first NPRM issued is being withdrawn.

List of Subjects in 14 CFR Part 71

Airspace, Incorporation by reference, Navigation (air).

The Withdrawal

In consideration of the foregoing, the NPRM for FR Doc. FAA-2015-1649, Airspace Docket No. 15-AGL-6, as published in the Federal Register of June 24, 2015 (80 FR 36265) (FR Doc. 2015-15461), is hereby withdrawn.

Authority: 49 U.S.C. 106(f), 106(g); 40103, 40113, 40120; E.O. 10854; 24 FR 9565, 3 CFR, 1959-1963 Comp., p. 389.

Issued in Fort Worth, TX, on April 19, 2016.
Walter Tweedy,
Acting Manager, Operations Support Group, ATO Central Service Center.

[FR Doc. 2016-10011 Filed 4-29-16; 8:45 am]

BILLING CODE 4910-13-P